DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by July 30, 2004.

Title and OMB Number: Request for Approval of Foreign Government Employment of Air Force Members; OMB Number 0701-0134.

Type of Request: Extension.

Number of Respondents: 212.

Responses Per Respondent: 1.

Annual Responses: 212.

Average Burden Per Response: 1 hour.

Annual Burden Hours: 212.

Needs and Uses: The information collection requirement is necessary to obtain the information needed by the Secretary of the Air Force and the Secretary of State on which to base a decision to approve a request to work for a foreign government. This approval is specified by title 37, United States Code, section 908. Respondents are Air Force retired members and certain Reserve members who have gained jobs with a foreign government. The information required, in the form of a letter, includes a detailed description of duty, name of employer, Social Security Number, and statements: specifying whether or not the employee will be compensated; declaring if employee will be required or plans to obtain foreign citizenship; declaring that the member will not be required to execute an oath of allegiance to the foreign government; verifying that the member understands that retired pay, equivalent to the amount received from the foreign government, may be withheld if he or she accepts employment with a foreign government before receiving approval. After verifying the status of the individual, the letter is forwarded to the Air Force Review Board for processing.

Affected Public: Individuals or households.

Frequency: On occasion.

Respondents's Obligation: Required to obtain or retain benefits.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/ESCD/Information Management Division, 1225 South Clark Street, Suite 504, Arlington, VA 22202-4326.

Dated: June 23, 2004.
L.M. Bynum,
Alternate OSD Federal Register, Liaison Officer, Department of Defense.

[FR Doc. 04-14732 Filed 6-29-04; 8:45 am]

BILLING CODE 5001-06-M